COMMITTEE FOR PURCHASE FROM PEOPLE WHO ARE BLIND OR SEVERELY DISABLED

Procurement List Proposed Addition; Correction

AGENCY: Committee for Purchase From People Who Are Blind or Severely Disabled

ACTION: Proposed addition to Procurement List.

SUMMARY: In the document appearing on page 42198, FR Doc. 01-20104, in the issue of August 10, 2001, in the second column the Committee published a notice of proposed addition to the Procurement List of, among other things, Janitorial/Grounds Maintenance, At the Following Locations: Sonoita Border Patrol Station, 3225 Highway 82, Sonoita, Arizona; Tucson Station (Silverbell), 3200 N. Silverbell Road, Tucson, Arizona; Tucson Sector HQ, 2010 W. Ajo Way, Tucson, Arizona; Willcox Border Patrol Station, 200 W Downen, Willcox, Arizona; Douglas Border Patrol Station, 1051 Lawrence Avenue, Douglas, Arizona; Ajo Border Patrol Station, 850 N. Tucson/Ajo Highway, Ajo, Arizona; Tucson Sector HQ (Building 9), 2010 W. Ajo Way, Tucson, Arizona. This notice is amended to include Tucson Air Operation, 2000 E. Airport Drive (Hanger), Tucson, Arizona, which was omitted from original notice, and to correct some of the names of the locations listed in that notice.

COMMENTS MUST BE RECEIVED ON OR BEFORE: November 8, 2001.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740

SUPPLEMENTARY INFORMATION: This notice is published pursuant to 41 U.S.C. 47(a)(2) and 41 CFR 51-2.3. Its purpose is to provide interested persons an opportunity to submit comments on the possible impact of the proposed actions. If the Committee approves the proposed addition, the entities of the Federal Government identified in this notice for each service will be required to procure the service listed below from nonprofit agencies employing persons who are blind or have other severe disabilities.

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the commodity proposed for addition to the Procurement List. Comments on this certification are invited. Commenters should identify the statement(s) underlying the certification on which they are providing additional information.

The following service is proposed for addition to Procurement List for production by the nonprofit agencies listed:

Services

Janitorial/Grounds Maintenance, at the Following Locations

Sonoita Border Patrol Station, 3225 Highway 82, Sonoita, Arizona

Tucson Sector Training/Special Operations (Silverbell), 3200 N. Silverbell Road, Tucson, Arizona

Tucson Sector Headquarters, 2010 W. Ajo Way, Tucson, Arizona

Willcox Border Patrol Station, 200 W Downen, Willcox, Arizona

Douglas Border Patrol Station, 1051 Lawrence Avenue, Douglas, Arizona

Ajo Border Patrol Station, 850 N. Tucson/Ajo Highway, Ajo, Arizona

Tucson Sector HQ (Building 9), 2010 W. Ajo Way, Tucson, Arizona

Tucson Air Operations, 2000 E. Airport Drive (Hanger), Tucson, Arizona

NPA: J.P. Industries, Inc., Tucson, Arizona

Government Agency: DOJ/Immigration and Naturalization Service

Sheryl D. Kennerly,
Director, Information Management.

[FR Doc. 01-25275 Filed 10-5-01; 8:45 am]

BILLING CODE 6353-01-P